DEPARTMENT OF ENERGY

Energy Information Administration

Solicitation of Comments on a Proposed Change to the Disclosure Limitation Policy for Information Reported on Form EIA-819 “Monthly Oxygenate Report”

AGENCY: Energy Information Administration (EIA), Department of Energy (DOE).

ACTION: Notice of solicitation of comments.

SUMMARY: The EIA is requesting comments on a proposal to change the data protection policy for information reported on fuel ethanol production capacity, (both nameplate and maximum sustainable capacity) and make this information publicly available. The data protection policy for all other information reported on Form EIA-819 “Monthly Oxygenate Report” will remain the same.

DATES: Comments must be filed by April 2, 2012. If you anticipate difficulty in submitting comments within that period, contact the person listed below as soon as possible.

ADDRESSES: Send comments to John Duff. To ensure receipt of the comments by the due date, submission by Fax (202-586-4913) or email (john.duff@eia. gov) is recommended. The mailing address is John Duff, EI-25, Forrestal Building, U.S. Department of Energy, 1000 Independence Ave. SW., Washington, DC 20585. Alternatively, John Duff may be contacted by telephone at 202-586-9612. The EIA-819 Forms and Instructions are available at: http://www.eia.gov/survey/#eia-819.

FOR FURTHER INFORMATION CONTACT: Requests for additional information should be directed to John Duff at the address listed above.

SUPPLEMENTARY INFORMATION:

I. Background

II. Current Actions

III. Request for Comments

I. Background

The Form EIA-819, “Monthly Oxygenate Report” collects data on oxygenate inputs, production, and end-of-month stocks. The form is required to be completed by the operators of all facilities that produce (manufacture or distill) oxygenates (including MTBE plants, petrochemical plants, and refineries) as part of their operations located in the 50 States and the District of Columbia. EIA stated in its survey instructions that it would protect the information to the extent that it satisfied the criteria for exemption under the Freedom of Information Act (FOIA), 5 U.S.C. 552, the Department of Energy (DOE) regulations, 10 CFR 1004.11 implementing the FOIA, and the Trade Secrets Act, 18 U.S.C. 1905. EIA now proposes to amend the instructions to state that EIA intends to treat all information reported on fuel ethanol production capacity, (both nameplate and maximum sustainable capacity) on Form EIA-819 as public information.

II. Current Actions

Beginning with the collection of July 2012 data, EIA proposes to treat all information reported on fuel ethanol production capacity, (both nameplate and maximum sustainable capacity) on Form EIA-819 as public information and release it on EIA's Web site. EIA will signify this change by amending the instructions on Form EIA-819 to state that this information will be treated as public. The publicly available ethanol production capacity information would be identifiable by company and facility. The data protection policy for all other information reported on Form EIA-819 will remain the same and be protected to the extent that the information qualifies as confidential commercial information under the criteria for exemption in the Freedom of Information Act (FOIA), 5 U.S.C. 552; the Department of Energy (DOE) regulations, 10 CFR part 1004, which implement the FOIA; and the Trade Secrets Act, 18 U.S.C. 1905. The proposed policy change is based on EIA's mandate for carrying out a central, comprehensive, and unified energy data and information program responsive to users' needs for credible, reliable, and timely energy information that will improve and broaden understanding of energy in the United States.

EIA releases on its Web site, on an annual basis, the atmospheric crude oil distillation capacity and downstream charge capacity, by state, for each refinery in the Refinery Capacity Report. One important use of ethanol is for blending with gasoline. The publication of fuel ethanol plant production capacities by facility will provide comparable upstream information similar to refineries and will be useful to assess upstream gasoline market supply conditions. By providing capacity information at the facility level for ethanol production and other refined petroleum products, supply conditions within a region or state may be assessed in the event of a supply disruption.

Fuel ethanol production capacities were previously collected by EIA on Form EIA-819A “Annual Oxygenate Capacity Report” from January 1, 1993-1995 and released by company and facility in the Petroleum Supply Annual during that same time period. Form EIA-819A was discontinued in 1996. The proposal to release fuel ethanol plant production capacity collected on Form EIA-819 beginning with July, 2012, reference period is consistent with past EIA practices and will improve the utility of the data by permitting comparisons on the growth in capacity at the state level over the past twenty years.

EIA does not anticipate the release of fuel ethanol plant production capacity data to cause any competitive harm to respondents to Form EIA-819 because this type of information is currently publicly available over the Internet. The Renewable Fuels Association publishes nameplate ethanol production capacity as well as the actual operating production and under-construction capacity at the facility level available at http://www.ethanolrfa.org/bio-refinery-locations. EIA is proposing only to release capacity information at the facility level and will continue to protect all other information reported on Form EIA-819 from being released in identifiable form.

III. Request for Comments

Respondents to Form EIA-819 and other interested parties should comment on the actions discussed in item II. Comments submitted in response to this notice will be considered by EIA and become a matter of public record.

Statutory Authority: Section 13(b) of the Federal Energy Administration Act of 1974, Public Law 93-275, codified at 15 U.S.C. 772(b).

Issued in Washington, DC.
Stephanie Brown,
Director, Office of Survey Development and Statistical Integration, U.S. Energy Information Administration.

[FR Doc. 2012-5102 Filed 3-1-12; 8:45 am]

BILLING CODE 6450-01-P